DEPARTMENT OF THE INTERIOR

National Park Service

National Register of Historic Places; Notification of Pending Nominations and Related Actions

Nominations for the following properties being considered for listing or related actions in the National Register were received by the National Park Service before June 4, 2005.

Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by July 5, 2005.

John W. Roberts,
Acting Chief, National Register/National Historic Landmarks Program.

GEORGIA

Baldwin County

Central State Hospital Cemeteries, 3 mi. SE of Milledgeville, centered on Cedar Lm, at Central State Hospital, bet. U.S. 441 and GA 112, Hardwick, 05000694

Fulton County

Crogman, William H., School, 103 West Ave., Atlanta, 05000692

Murray County

Chatsworth Downtown Historic District, (Georgia County Courthouses TR (AD)) Roughly bounded by Peachtree St., First Ave., CSX RR tracks, Fort St., and Fourth St., Chatsworth, 05000693

SOUTH DAKOTA

Fall River County

Archeological 39FA1638, (Prehistoric Rock Art of South Dakota MPS) Address Restricted, Edgemont, 05000691

Archeological Site 39FA1336, (Prehistoric Rock Art of South Dakota MPS) Address Restricted, Edgemont, 05000690

Archeological site 39FA1937, (Prehistoric Rock Art of South Dakota MPS) Address Restricted, Edgemont, 05000689

Lord's Ranch Rockshelter, (Prehistoric Rock Art of South Dakota MPS) Address Restricted, Edgemont, 05000688

TENNESSEE

Knox County

Lincoln Park United Methodist Church, (Knoxville and Knox County MPS) 3120 Pershing St., Knoxville, 05000695

Madison County

Holland, William, Jr., House, 215 Roland Ave., Jackson, 05000696

WYOMING

Laramie County

Cheyenne High School, (Public Schools in Cheyenne, Wyoming MPS) 2810 House Ave., Cheyenne, 05000698

Churchill Public School, (Public Schools in Cheyenne, Wyoming MPS) 510 W. 29th St., Cheyenne, 05000704

Corlett School, (Public Schools in Cheyenne, Wyoming MPS) 600 W. 22nd St., Cheyenne, 05000702

Deming School, (Public Schools in Cheyenne, Wyoming MPS) 715 W. Fifth Ave., Cheyenne, 05000701

Fincher, Mabel, School, (Public Schools in Cheyenne, Wyoming MPS) 2201 Morrie Ave., Cheyenne, 05000700

Hebard Public School, (Public Schools in Cheyenne, Wyoming MPS) 413 Seymour Ave., Cheyenne, 05000705

Johnson Public School, (Public Schools in Cheyenne, Wyoming MPS) 711 Warren Ave., Cheyenne, 05000706

McCormick, Lulu, Junior High School, (Public Schools in Cheyenne, Wyoming MPS) 2001 Capitol Ave., Cheyenne, 05000699

Park Addition School, (Public Schools in Cheyenne, Wyoming MPS) 1100 Richardson Court, Cheyenne, 05000703

Storey Gymnasium, (Public Schools in Cheyenne, Wyoming MPS) 2811 House Ave., Cheyenne, 05000707

Uinta County

Union Pacific Railroad Complex, Main and 15th St., Evanston, 05000708

[FR Doc. 05-11933 Filed 6-16-05; 8:45 am]

BILLING CODE 4312-51-P